DEPARTMENT OF TRANSPORTATION

Federal Aviation Administration

14 CFR Part 71

[Docket No. FAA-2006-23709; Airspace Docket No. 06-AAL-02]

Establishment of Class E Airspace; Willow, AK

AGENCY: Federal Aviation Administration (FAA), DOT.

ACTION: Final rule.

SUMMARY: This action establishes Class E airspace at Willow, AK to provide adequate controlled airspace to contain aircraft executing new Instrument Procedures. This rule results in new Class E airspace established upward from 700 feet (ft.) and 1,200 ft. above the surface at Willow, AK.

DATES: Effective Date: 0901 UTC, September 28, 2006.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Tuesday, May 30, 2006, the FAA proposed to amend part 71 of the Federal Aviation Regulations (14 CFR part 71) to establish Class E airspace upward from 700 ft. and 1,200 ft. above the surface at Willow, AK (71 FR 30631). The action was proposed in order to create Class E airspace sufficient in size to contain aircraft while executing two new Standard Instrument Approach Procedures (SIAPs), one new Standard Instrument Departure (SID) and a published departure procedure (DP) for the Willow Airport. The new approaches are (1) Area Navigation (Global Positioning System) (RNAV (GPS)) RWY 13, Original and (2) RNAV (GPS) RWY 31, Original. The SID is named the Big Lake One Departure. The DP is unnamed and will be listed in the front of the U.S. Terminal Procedures publication for Alaska. Class E controlled airspace extending upward from 700 ft. and 1,200 ft. above the surface in the Willow Airport area is established by this action.

Interested parties were invited to participate in this rulemaking proceeding by submitting written comments on the proposal to the FAA. One comment was received. The commenter approved of the proposed action but would like to “get the Class E down to the surface.” A surface area had been considered for the Willow Airport, but was deemed too restrictive for the vast majority of local operators. There are 11 airports within the area that would be encompassed by a standard surface area. The pilots at these airports are typically flying exclusively under Visual Flight Rules (VFR). The demand for Instrument Flight Rules (IFR) usage of SIAPs to the Willow Airport is very low. A surface area would require increased visibility and communications requirements, as well as the necessity to obtain ATC clearances for operations to/from these airports, and is not warranted at this time. The SIAP minima will contain IFR traffic in Class E airspace as proposed. The commenter also offered a suggestion to place a VOR in the Willow area to enable VOR SIAP(s). This suggestion will not be adopted due to the high cost of installation of a VOR and the very low use it would generate. The rule is adopted as proposed.

The area will be depicted on aeronautical charts for pilot reference. The coordinates for this airspace docket are based on North American Datum 83. The Class E airspace areas designated as 700/1,200 ft. transition areas are published in paragraph 6005 of FAA Order 7400.9N, Airspace Designations and Reporting Points, dated September 1, 2005, and effective September 15, 2005, which is incorporated by reference in 14 CFR 71.1. The Class E airspace designation listed in this document will be published subsequently in the Order.

The Rule

This amendment to 14 CFR part 71 establishes Class E airspace at the Willow Airport, Alaska. This Class E airspace is created to accommodate aircraft executing two new SIAPs, one SID and one DP, and will be depicted on aeronautical charts for pilot reference. The intended effect of this rule is to provide adequate controlled airspace for IFR operations at the Willow Airport, Willow, Alaska.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it creates Class E airspace sufficient in size to contain aircraft executing instrument procedures for the Willow Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2005, and effective September 15, 2005, is amended as follows:

* * * * *

Paragraph 6005 Class E airspace extending upward from 700 feet or more above the surface of the earth.

* * * * *

AAL AK E5 Willow, AK [New]

Willow Airport, AK

(Lat. 61°45′16″ N., long. 150°03′06″ W.)

That airspace extending upward from 700 feet above the surface within a 6.4-mile radius of the Willow Airport, and that airspace extending upward from 1,200 feet above the surface within a 72-mile radius of the Willow Airport.

* * * * *

Issued in Anchorage, AK, on July 24, 2006.
Anthony M. Wylie,
Director, Alaska Flight Service Information Office.

[FR Doc. E6-12284 Filed 7-31-06; 8:45 am]

BILLING CODE 4910-13-P